CONSUMER PRODUCT SAFETY COMMISSION

Petition Requesting Performance Requirments for Non-Wood Baseball Bats

AGENCY: Consumer Product Safety Commission.

ACTION: Notice.

SUMMARY: The Commission has received a petition (CP 00-1) requesting that the Commission issue a performance standard for non-wood baseball bats. The Commission solicits written comments concerning the petition.

DATES: The Office of the Secretary must receive comments on the petition by August 14, 2000.

ADDRESSES: Comments, preferably in five copies, on the petition should be mailed to the Office of the Secretary, Consumer Product Safety Commission, Washington, DC 20207, telephone (301) 504-0800, or delivered to the Office of the Secretary, Room 501, 4330 East-West Highway, Bethesda, Maryland 20814. Comments may also be filed by telefacsimile to (301) 504-0127 or by email to cpsc-os@cpsc.gov. Comments should be captioned “Petition CP 00-1, Petition on Baseball Bats.” A copy of the petition is available for inspection at the Commission's Public Reading Room, Room 419, 4330 East-West Highway, Bethesda, Maryland.

FOR FURTHER INFORMATION CONTACT: Rockelle Hammond, Office of the Secretary, Consumer Product Safety Commission, Washington, D.C. 20207; telephone (301) 504-0800, ext. 1232.

SUPPLEMENTARY INFORMATION: The Commission has received correspondence from J.W. MacKay, Jr. requesting that the Commission issue a rule requiring that all non-wood baseball bats perform like wood bats. The Commission is docketing his request as a petition under the Consumer Product Safety Act. 15 U.S.C. 2056 and 2058. The petitioner asserts that non-wood bats (primarily made of aluminum and composite materials) have become increasingly dangerous. He states that such bats have a faster bat swing speed, a larger “sweet spot,” and lower balance point than wood bats. These high performance bats, he asserts, allow the ball to achieve a faster exit velocity so that the pitcher does not have time to react if a ball is batted at him. For these reasons, the petitioner argues, such non-wood bats present an unreasonable risk of injury.

Interested parties may obtain a copy of the petition by writing or calling the Office of the Secretary, Consumer Product Safety Commission, Washington, DC 20207; telephone (301) 504-0800. Copies of the petition are also available for inspection from 8:30 a.m. to 5 p.m., Monday through Friday, in the Commission's Public Reading Room, Room 419, 4330 East-West Highway, Bethesda, Maryland.

Dated: June 9, 2000.
Sadye E. Dunn,
Secretary, Consumer Product Safety Commission.

[FR Doc. 00-15062 Filed 6-14-00; 8:45 am]

BILLING CODE 6355-01-P